DEPARTMENT OF DEFENSE

Office of the Secretary

[Transmittal No. 19-30]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-30 with attached Policy Justification.

Dated: September 20, 2019.
Aaron T. Siegel,
Alternate OSD Federal Register Liaison Officer, Department of Defense.

Transmittal No. 19-30

Notice of Proposed Issuance of Letter of Offer Pursuant to Section 36(b)(1) of the Arms Export Control Act, as amended

(i) Prospective Purchaser: Government of India

(ii) Total Estimated Value:

Major Defense Equipment* | $ 0 million
Other | $670 million
Total | $670 million

(iii) Description and Quantity or Quantities of Articles or Services under Consideration for Purchase:

Major Defense Equipment (MDE): None

Non-MDE:

C-17 follow-on support includes spares and repair parts; support equipment; personnel training and training equipment; publications and technical documentation; support and test equipment; U.S. Government and contractor engineering, technical and logistical support services; and other related elements of logistics and program support.

(iv) Military Department: Air Force IN-D-QAC

(v) Prior Related Cases, if any: IN-D-SAC, IN-D-SAE

(vi) Sales Commission, Fee, etc., Paid, Offered, or Agreed to be Paid: None

(vii) Sensitivity of Technology Contained in the Defense Article or Defense Services Proposed to be Sold: None

(viii) Date Report Delivered to Congress: July 26, 2019

*As defined in Section 47(6) of the Arms Export Control Act.

POLICY JUSTIFICATION

India - C-17 Sustainment Follow-On Support

The Government of India has requested to buy equipment for C-17 follow-on support, to include spares and repair parts; support equipment; personnel training and training equipment; publications and technical documentation; support and test equipment; U.S. Government and contractor engineering, technical and logistical support services; and other related elements of logistics and program support. The total estimated program cost is $670 million.

This proposed sale will support the foreign policy and national security of the United States by helping to strengthen the U.S.-Indian strategic relationship and to improve the mobility capabilities of a major defensive partner which continues to be an important force for political stability, peace, and economic progress in the Indo-Pacific and South Asia region.

India needs this follow-on support to maintain its operational readiness and ability to provide Humanitarian Assistance and Disaster Relief (HA/DR) assistance in the region. India will have no difficulty absorbing this support into its armed forces.

The proposed sale of this equipment and support will not alter the basic military balance in the region.

The prime contractor will be the Boeing Corporation, Chicago, Illinois. There are no known offset agreements proposed in connection with this potential sale, however, the purchaser typically requests offsets. Any offset agreement will be defined in negotiations between the purchaser and the prime contractor.

Implementation of this proposed sale will require the assignment of one U.S. Government representative and 23 contractor representatives to India.

There will be no adverse impact on U.S. defense readiness as a result of this proposed sale.

[FR Doc. 2019-20837 Filed 9-24-19; 8:45 am]

BILLING CODE 5001-06-P